DEPARTMENT OF HOMELAND SECURITY

Coast Guard

[Docket No. USCG-2009-0576]

Port Access Route Study: Off San Francisco, CA

AGENCY: Coast Guard, DHS.

ACTION: Notice of study; request for comments.

SUMMARY: The Coast Guard is conducting a Port Access Route Study (PARS) to evaluate the continued applicability of and the need for modifications to current vessel routing measures in the approaches to San Francisco. The goal of the study is to help reduce the risk of marine casualties and increase the efficiency of vessel traffic in the study area. The recommendations of the study may lead to future rulemaking action or appropriate international agreements.

DATES: Comments and related material must reach the Docket Management Facility on or before February 8, 2010.

ADDRESSES: You may submit comments identified by docket number USCG-2009-0576 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329. To avoid duplication, please use only one of these four methods. See the “Public Participation and Request for Comments” portion of the SUPPLEMENTARY INFORMATION section below for instructions on submitting comments.

FOR FURTHER INFORMATION CONTACT: If you have questions on this notice of study, contact Lieutenant Sara Young, Project Officer, Eleventh Coast Guard District, telephone 510-437-2978; or e-mail Sara.E.Young@uscg.mil; or George Detweiler, Office of Waterways Management, Coast Guard, telephone 202-372-1566, or e-mail George.H.Detweiler@uscg.mil. If you have questions on viewing or submitting material to the docket, call Ms. Renee K. Wright, Program Manager, Docket Operations, telephone 202-366-9826.

SUPPLEMENTARY INFORMATION:

Public Participation and Request for Comments

We encourage you to participate in this study by submitting comments and related materials. All comments received will be posted, without change, to http://www.regulations.gov and will include any personal information you have provided.

Submitting Comments

If you submit comments, please include the docket number for this rulemaking (USCG-2009-0576), indicate the specific section of this document to which each comment applies, and provide a reason for each suggestion or recommendation. You may submit your comments and material online, or by fax, mail or hand delivery, but please use only one of these means. We recommend that you include your name and a mailing address, an e-mail address, or a telephone number in the body of your document so that we can contact you if we have questions regarding your submission.

To submit your comment online, go to http://www.regulations.gov, click on the “submit a comment” box, which will then become highlighted in blue. In the “Document Type” drop down menu select “Notices” and insert “USCG-2009-0576” in the “Keyword” box. Click “Search” then click on the balloon shape in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the Comments and Documents

To view the comments and documents mentioned in this preamble as being available in the docket, go to http://www.regulations.gov, click on the “read comments” box, which will then become highlighted in blue. In the “Keyword” box insert “USCG-2009-0576” and click “Search.” Click the “Open Docket Folder” in the “Actions” column. If you do not have access to the Internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act, system of records notice regarding our public dockets in the January 17, 2008, issue of the Federal Register (73 FR 3316).

Definitions

The following definitions are from the International Maritime Organization's (IMO's) publication “Ships' Routeing” (except “Regulated Navigation Area”) and should help you review this notice:

Area to be avoided (ATBA) means a routing measure comprising an area within defined limits in which either navigation is particularly hazardous or it is exceptionally important to avoid casualties and which should be avoided by all vessels, or certain classes of vessels.

Deep-water route means a route within defined limits, which has been accurately surveyed for clearance of sea bottom and submerged obstacles as indicated on nautical charts.

Inshore traffic zone means a routing measure comprising a designated area between the landward boundary of a traffic separation scheme and the adjacent coast, to be used in accordance with the provisions of Rule 10(d), as amended, of the International Regulations for Preventing Collisions at Sea, 1972 (COLREGS).

Precautionary area means a routing measure comprising an area within defined limits where vessels must navigate with particular caution and within which the direction of traffic flow may be recommended.

Recommended route means a route of undefined width, for the convenience of vessels in transit, which is often marked by centerline buoys.

Recommended track is a route which has been specially examined to ensure so far as possible that it is free of dangers and along which vessels are advised to navigate.

Regulated Navigation Area (RNA) means a water area within a defined boundary for which regulations for vessels navigating within the area have been established under 33 CFR part 165.

Roundabout means a routing measure comprising a separation point or circular separation zone and a circular traffic lane within defined limits. Traffic within the roundabout is separated by moving in a counterclockwise direction around the separation point or zone.

Separation Zone or separation line means a zone or line separating the traffic lanes in which vessels are proceeding in opposite or nearly opposite directions; or separating a traffic lane from the adjacent sea area; or separating traffic lanes designated for particular classes of vessels proceeding in the same direction.

Traffic lane means an area within defined limits in which one-way traffic is established. Natural obstacles, including those forming separation zones may constitute a boundary.

Traffic Separation Scheme (TSS) means a routing measure aimed at the separation of opposing streams of traffic by appropriate means and by the establishment of traffic lanes.

Two-way route means a route within defined limits inside which two-way traffic is established, aimed at providing safe passage of ships through waters where navigation is difficult or dangerous.

Vessel routing system means any system of one or more routes or routing measure aimed at reducing the risk of casualties; it includes traffic separation schemes, two-way routes, recommended tracks, areas to be avoided, no anchoring areas, inshore traffic zones, roundabouts, precautionary areas, and deep-water routes.

Background and Purpose

Requirement for port access route studies: Under the Ports and Waterways Safety Act (PWSA) (33 U.S.C. 1223(c)), the Commandant of the Coast Guard may designate necessary fairways and traffic separation schemes (TSSs) to provide safe access routes for vessels proceeding to and from United States ports. The designation of fairways and TSSs recognizes the paramount right of navigation over all other uses in the designated areas.

The PWSA requires the Coast Guard to conduct a study of potential traffic density and the need for safe access routes for vessels before establishing or adjusting fairways or TSSs. Through the study process, we must coordinate with Federal, State, and foreign state agencies (as appropriate) and consider the views of maritime community representatives, environmental groups, and other interested stakeholders. A primary purpose of this coordination is, to the extent practicable, to reconcile the need for safe access routes with other reasonable waterway uses.

Previous port access route studies: In 1979, the Coast Guard initiated a port access route study of the California coast. The study recommended an amendment to the existing TSSs off San Francisco which consisted of rotating the southern approach lane westward (seaward) to provide a true north-south alignment. This shift would encourage vessels in the area to transit farther offshore when entering or departing San Francisco Bay from or to the south. The International Maritime Organization (IMO) adopted this recommendation in 1990.

The United States elected to postpone implementation of the amendment until the Monterey Bay National Marine Sanctuary was designated and a study of potential impacts was conducted. The Monterey Bay National Marine Sanctuary Vessel Management Final Report was published October 22, 1998. Similar to the 1979 PARS and the IMO adopted amendments, the report recommended shifting the “southern approach” of the San Francisco TSS slightly west to reduce risk of groundings along the San Mateo coastline and to improve north-south alignment.

Necessity for a new port access route study: The Coast Guard is always seeking ways to enhance the safety of life at sea. The Coast Guard has identified a potential safety enhancement by increasing predictability of vessel traffic patterns in a popular offshore fishing area near the northern approach of the traffic separation scheme off San Francisco. When vessels follow predictable and charted routing measures, congestion may be reduced, and mariners may be better able to predict where vessel interactions may occur and act accordingly.

The Coast Guard plans to study whether extending the traffic lanes of the Traffic Separation Schemes off San Francisco would increase safety in the area just outside the radar range of Vessel Traffic Service (VTS) San Francisco. Because the VTS does not monitor this region, extending the traffic lanes may increase the predictability of vessel movements and encounters and improve navigation safety. In addition, the study will also assess whether extending the traffic lanes may interfere with fishing vessels operating in the area.

Furthermore, the present traffic lanes go through the Gulf of the Farallones National Marine Sanctuary and, if extended, will go into the Cordell Bank National Marine Sanctuary. The increased predictability of vessel traffic using established traffic lanes may decrease the potential for oil spills, collisions and other events that could threaten the marine environment.

Timeline, study area, and process of this PARS: The Eleventh Coast Guard District will conduct this PARS. The study will begin immediately and should take 6 to 12 months to complete.

The study area will encompass the traffic separation schemes off San Francisco extending to the limit of the VTS area and vessel traffic patterns of vessels departing from or approaching the traffic lanes. The VTS area covers the seaward approaches within a 38 nautical mile radius of Mount Tamalpais (37°55.8′ N., 122°34.6′ W).

As part of this study, we will consider previous studies, analyses of vessel traffic density, fishing vessel information, and agency and stakeholder experience in vessel traffic management, navigation, ship handling, and effects of weather. We encourage you to participate in the study process by submitting comments in response to this notice.

We will publish the results of the PARS in the Federal Register. It is possible that the study may validate existing vessel routing measures and conclude that no changes are necessary. It is also possible that the study may recommend one or more changes to enhance navigational safety and the efficiency of vessel traffic. The recommendations may lead to future rulemakings or appropriate international agreements.

Possible Scope of the Recommendations

We are attempting to determine the scope of any safety problems associated with vessel transits in the study area. We expect that information gathered during the study will help us identify any problems and appropriate solutions. The study may recommend that we—

• Maintain the current vessel routing measures;

• Modify the existing traffic separation scheme;

• Create one or more precautionary areas;

• Create one or more inshore traffic zones;

• Establish area(s) to be avoided;

• Create deep-draft routes;

• Establish a Regulated Navigation Area (RNA) with specific vessel operating requirements to ensure safe navigation near shallow water; and

• Identify any other appropriate ships' routing measures.

Questions

To help us conduct the port access route study, we request information that will help answer the following questions, although comments on other issues addressed in this notice are also welcome. In responding to a question, please explain your reasons for each answer and follow the instructions under “Public Participation and Request for Comments” above.

1. What navigational hazards do vessels operating in the study area face? Please describe.

2. Are there strains on the current vessel routing system, such as increasing traffic density? Please describe.

3. Are modifications to existing vessel routing measures needed to address hazards and strains and to improve traffic efficiency in the study area? If so, please describe.

4. What costs and benefits are associated with the measures listed as potential study recommendations? What measures do you think are most cost-effective?

5. What impacts, both positive and negative, would changes to existing routing measures or new routing measures have on the study area?

This notice is issued under authority of 33 U.S.C. 1223(c) and 5 U.S.C. 552.

Dated: October 13, 2009.
Kevin S. Cook,
Rear Admiral, U.S. Coast Guard, Director of Prevention Policy.

[FR Doc. E9-29415 Filed 12-9-09; 8:45 am]

BILLING CODE 4910-15-P